DEPARTMENT OF COMMERCE

Economics and Statistics Administration

Bureau of Economic Analysis Advisory Committee

AGENCY: Bureau of Economic Analysis.

ACTION: Notice of public meeting.

SUMMARY: Pursuant to the Federal Advisory Committee Act (Public Law 92-463, as amended by Public Law 94-409, Public Law 96-523, and Public Law 97-375), we are giving notice of a meeting of the Bureau of Economic Analysis Advisory Committee. The meeting's agenda is as follows: 1. Discussion of estimation of Benchmark Input-Output Accounts; 2. Discussion of integration of the industry accounts with the national accounts, issues and challenges; 3. Discussion of accelerating the annual industry accounts, estimation and methodologies; 4. Discussion of other current issues in national economic accounts.

DATES: On Friday, May 9, 2003, the meeting will begin at 9 a.m. and adjourn at approximately 4 p.m.

ADDRESSES: The meeting will take place at the Bureau of Economic Analysis (BEA), 2nd floor, Conference Rooms A&B, 1441 L Street, NW., Washington, DC 20230.

FOR FURTHER INFORMATION CONTACT: J. Steven Landefeld, Director, Bureau of Economic Analysis, U.S. Department of Commerce, Washington, DC 20230; telephone: 202-606-9600.

Public Participation: This meeting is open to the public. Because of security procedures, anyone planning to attend the meeting must contact Verna Learnard of BEA at 202-606-9690 in advance. The meeting is physically accessible to people with disabilities. Requests for sign language interpretation or other auxiliary aids should be directed to Verna Learnard at 202-606-9690.

SUPPLEMENTARY INFORMATION: The Committee was established on September 2, 1999, to advise the Bureau of Economic Analysis (BEA) on matters related to the development and improvement of BEA's national, regional, and international economic accounts. This will be the Committee's sixth meeting.

Dated: February 20, 2003.
J. Steven Landefeld,
Director, Bureau of Economic Analysis.

[FR Doc. 03-4746 Filed 2-27-03; 8:45 am]

BILLING CODE 3510-06-P